DEPARTMENT OF LABOR

Employment and Training Administration

[TA-W-62,787]

Hasbro, Inc., Hasbro Managerial Services, Inc., East Longmeadow, MA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 21, 2008, applicable to workers of Hasbro, Inc., East Longmeadow, Massachusetts. The notice was published in the Federal Register on March 7, 2008 (73 FR 12466).

At the request of the State agency, the Department reviewed the certification for workers of the subject firm. The workers were engaged in the production of board games and puzzles.

New information shows that workers separated from employment at the subject firm had their wages reported under two separate unemployment insurance (UI) tax accounts Hasbro, Inc. and Hasbro Managerial Services, Inc.

Accordingly, the Department is amending this certification to properly reflect this matter.

The intent of the Department's certification is to include all workers of Hasbro, Inc., and Hasbro Managerial Services, Inc., who were adversely affected by increased imports of board games and puzzles following a shift in production to China.

The amended notice applicable to TA-W-62,787 is hereby issued as follows:

All workers of Hasbro, Inc., and Hasbro Managerial Services, Inc., East Longmeadow, Massachusetts, who became totally or partially separated from employment on or after January 30, 2007, through February 21, 2010, are eligible to apply for adjustment assistance under Section 223 of the Trade Act of 1974, and are also eligible to apply for alternative trade adjustment assistance under Section 246 of the Trade Act of 1974.

Signed at Washington, DC this 6th day of June, 2008.
Richard Church,
Certifying Officer, Division of Trade Adjustment Assistance.

[FR Doc. E8-13403 Filed 6-13-08; 8:45 am]

BILLING CODE 4510-FN-P